ENVIRONMENTAL PROTECTION AGENCY

[EPA-HQ-OPP-2008-0143; FRL-8390-6]

State Issues Research and Evaluation Group (SFIREG) Full Committee; Notice of Public Meeting

AGENCY: Environmental Protection Agency (EPA).

ACTION: Notice.

SUMMARY: The Association of American Pesticide Control Officials (AAPCO)/State FIFRA Issues Research and Evaluation Group (SFIREG) Full Committee will hold a 2-day meeting, beginning on December 8, 2008 and ending December 9, 2008. This notice announces the location and times for the meeting and sets forth the tentative agenda topics.

DATES: The meeting will be held on Monday, December 8, 2008 from 8:30 a.m. to 5:00 p.m. and 8:30 a.m to 12 noon on Tuesday December 9, 2008

To request accommodation of a disability, please contact the person listed under FOR FURTHER INFORMATON CONTACT, preferably at least 10 days prior to the meeting, to give EPA as much time as possible to process your request.

ADDRESSES: The meeting will be held at EPA. One Potomac Yard (South Bldg.) 2777 Crystal Dr., Arlington VA. 4th Floor South Conference Room.

FOR FURTHER INFORMATION CONTACT: Ronald Kendall, Field and External Affairs Division (7506P), Office of Pesticide Programs, Environmental Protection Agency, 1200 Pennsylvania Ave., NW., Washington, DC 20460-0001; telephone number: (703) 305-5561 fax number: (703) 308-1850; e-mail address: kendall.ronald@epa.gov. or Grier Stayton, SFIREG Executive Secretary, P.O. Box 466, Milford DE 19963; telephone number (302) 422-8152; fax (302) 422-2435; e-mail address: grierstaytonaapco-sfireg@comcast.net.

SUPPLEMENTARY INFORMATION:

I. General Information

A. Does this Action Apply to Me?

You may be potentially affected by this action if you are interested in SFIREG information exchange relationship with EPA regarding important issues related to human health, environmental exposure to pesticides, and insight into EPA's decision-making process. You are invited and encouraged to attend the meetings and participate as appropriate. Potentially affected entities may include, but are not limited to:

Those persons who are or may be required to conduct testing of chemical substances under the Federal Food, Drug and Cosmetics Act (FFDCA), or the Federal Insecticide, Fungicide, and Rodenticide Act (FIFRA).

B. How Can I Get Copies of this Document and Other Related Information?

1. Docket. EPA has established a docket for this action under docket ID number EPA-HQ-OPP-2008-0143. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

1. Regional Reports/Issues from the State Reps

2. SFIREG Pesticide Operations and Management Working Committee Meeting

3. Pyrethroids, Picloram, AM HVAC Labeling, Registrant Stewardship

4. Programs, Web Distributed Labeling

5. Green labeling (stand alone with AMD), rodenticides, use by statements

6. SFIREG Water Quality and Pesticide Disposal Working Committee Meeting

7. Sampling, Analytical Methodology, Health risk from semi-volatile pesticides, WC Name Change

8. Registration Division Label Quality Assurance Update

9. Thiencarbazone Label trial

10. 25b Update

11. Reg 1 Issue Paper, Green Labeling, HVAC

12. Total Release Foggers

13. Tribal Pesticide Program Council Update

14. American Association of Pesticide Safety Educators Update

15. Pesticide Regulatory Education Program Course Calendar

16. Office of Pesticide Program Update

17. Chemigation PR Notice, LAW

18. Office of Enforcement and Compliance Program Update

19. PIRT Schedule

20. Regional Issue Paper Discussion

III. How Can I Request to Participate in this Meeting?

You may submit a request to participate in this meeting to the person listed under FOR FURTHER INFORMATION CONTACT. Do not submit any information in your request that is considered CBI. Requests to participate in the meeting, identified by docket ID number EPA-HQ-OPP-2008-0143, must be received on or before October 21, 2008 Federal Register.

List of Subjects

Environmental protection.

Dated: November 12, 2008.
William R. Diamond,
Director, Field and External Affairs Division, Office of Pesticide Programs.

[FR Doc. E8-27758 Filed 11-25-08; 8:45 am]

BILLING CODE 6560-50-S